DEPARTMENT OF THE INTERIOR

Bureau of Land Management

[LLAK930000.L51010000.FP0000.LVRWL14L0740]

Notice of Availability of the Record of Decision for the Final Environmental Impact Statement for the Coastal Plain Oil and Gas Leasing Program, Alaska

AGENCY: Bureau of Land Management, Interior.

ACTION: Notice of Availability.

SUMMARY: The Bureau of Land Management (BLM), Alaska State Office, announces the availability of the Record of Decision (ROD) for the Final Environmental Impact Statement (EIS) for the Coastal Plain Oil and Gas Leasing Program. The Secretary for the Department of the Interior's signature on the ROD constitutes the final decision of the Department, thereby completing the required National Environmental Policy Act process for implementing an oil and gas leasing program within the Coastal Plain of the Arctic National Wildlife Refuge.

ADDRESSES: Requests for information regarding the ROD may be mailed to: Coastal Plain Oil and Gas Leasing Program, 222 West 7th Avenue, #13, Anchorage, AK 99513-7504. The ROD is available on the BLM Alaska website at http://www.blm.gov/alaska.

FOR FURTHER INFORMATION CONTACT: Nicole Hayes, BLM Alaska State Office, 907-271-4354. Persons who use a telecommunications device for the deaf (TDD) may call the Federal Relay Service (FRS) at 1-800-877-8339 to contact the above individuals during normal business hours. The FRS is available 24 hours a day, seven days a week, to leave a message or question with the above individuals. You will receive a reply during normal business hours.

SUPPLEMENTARY INFORMATION: Title II, Section 20001 of Public Law 115-97 directs the Secretary of the Interior, acting through the BLM, to establish and administer a competitive oil and gas leasing program for the leasing, development, production, and transportation of oil and gas in and from the Coastal Plain. The BLM was directed to manage the oil and gas leasing program on the Coastal Plain in a manner similar to lease sales under the Naval Petroleum Reserves Production Act of 1976 (including regulations). The BLM was also directed to conduct two area-wide lease sales offering not fewer than 400,000 acres, in areas where there is the highest potential for the discovery of hydrocarbons.

The ROD approves a program to carry out this statutory directive. By determining where and under what terms and conditions leasing will occur, the ROD takes into account the requirements of Public Law 115-97 and other applicable law. To inform this Decision, the BLM prepared the Coastal Plain Oil and Gas Leasing Program Environmental Impact Statement (Leasing EIS).

The ROD adopts Alternative B of the Leasing EIS as to where and under what terms and conditions leasing may occur subject to future specific environmental analysis and permitting decisions, except clarifications have been provided for required operating procedures (ROP) 11 and 17, as well as Lease Notice 2. The ROD also does not adopt the interpretive assumptions made in the Leasing EIS as to the implementation of Section 20001(c)(3) of Public Law 115-97. Rather, it provides guidance regarding certain general principles for the future application of that section of the law.

Authority: 40 CFR 1502.9, 40 CFR 1506.6.

Chad B. Padgett,
State Director, Alaska.

[FR Doc. 2020-18431 Filed 8-20-20; 8:45 am]

BILLING CODE 4310-JA-P